DEPARTMENT OF COMMERCE

National Oceanic and Atmospheric Administration

RIN 0648-XA397

Taking and Importing Marine Mammals; Geological and Geophysical Exploration of Mineral and Energy Resources on the Outer Continental Shelf in the Gulf of Mexico

AGENCY: National Marine Fisheries Service (NMFS), National Oceanic and Atmospheric Administration (NOAA), Commerce.

ACTION: Notice; receipt of revised application for Letters of Authorization; request for comments and information.

SUMMARY: NMFS has received a revised application from the U.S. Department of the Interior (DOI), Bureau of Ocean Energy Management, Regulation, and Enforcement (BOEMRE), formerly Minerals Management Service (MMS), for authorization to take marine mammals, by Level A and Level B harassment, incidental to oil and gas industry sponsored seismic surveys for purposes of geological and geophysical (G&G) exploration on the Outer Continental Shelf (OCS) in the Gulf of Mexico (GOM) from approximately 2012 to 2017. Pursuant to Marine Mammal Protection Act (MMPA) implementing regulations, NMFS is announcing receipt of BOEMRE's request for the development and implementation of regulations governing the incidental taking of marine mammals and inviting information, suggestions, and comments on BOEMRE's revised application.

DATES: Comments and information must be received no later than July 14, 2011.

ADDRESSES: Comments on the application should be addressed to P. Michael Payne, Chief, Permits, Conservation, and Education Division, Office of Protected Resources, National Marine Fisheries Service, 1315 East-West Highway, Silver Spring, MD 20910-3225. The mailbox address for providing e-mail comments is ITP.Goldstein@noaa.gov. NMFS is not responsible for e-mail comments sent to addresses other than the one provided here. Comments sent via e-mail, including all attachments, must not exceed a 10-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

A copy of the application containing a list of the references used in this document may be obtained by writing to the address specified above, telephoning the contact listed below (see FOR FURTHER INFORMATION CONTACT), or visiting the Internet at: http://www.nmfs.noaa.gov/pr/permits/incidental.htm. Documents cited in this notice may be viewed, by appointment, during regular business hours, at the aforementioned address.

FOR FURTHER INFORMATION CONTACT: Howard Goldstein or Jolie Harrison, Office of Protected Resources, NMFS, 301-713-2289, ext. 172.

SUPPLEMENTARY INFORMATION:

Availability

A copy of the application containing a list of the references used in this document may be obtained by writing to the address specified above, telephoning the contact listed below (see FOR FURTHER INFORMATION CONTACT), or visiting the Internet at: http://www.nmfs.noaa.gov/pr/permits/incidental.htm.

Documents cited in this notice may be viewed, by appointment, during regular business hours, at the aforementioned address.

Background

Sections 101(a)(5)(A) and (D) of the MMPA (16 U.S.C. 1361 et seq.) direct the Secretary of Commerce (Secretary) to allow, upon request, the incidental, but not intentional, taking of small numbers of marine mammals of a species or stock, by U.S. citizens who engage in a specified activity (other than commercial fishing) within a specified geographical region if certain findings are made and regulations are issued, or if the taking is limited to harassment an Incidental Harassment Authorization (IHA) is issued. Upon making a finding that an application for incidental take is adequate and complete, NMFS commences the incidental take authorization process by publishing in the Federal Register a notice of a receipt of an application for the implementation of regulations or a proposed IHA.

An authorization for the incidental taking of small numbers of marine mammals shall be granted if NMFS finds that the taking during the relevant period will have a negligible impact on the species or stock(s), will not have an unmitigable adverse impact on the availability of the species or stock(s) for subsistence uses (where relevant). The authorization must set forth the permissible methods of taking, other means of effecting the least practicable adverse impact on the species or stock(s) and its habitat, and requirements pertaining to the monitoring and reporting of such takings.

NMFS has defined “negligible impact” in 50 CFR 216.103 as:

“An impact resulting from the specified activity that cannot be reasonably expected to, and is not reasonably likely to, adversely affect the species or stock through effects on annual rates of recruitment or survival.”

Except with respect to certain activities not pertinent here, the MMPA defines “harassment” as:

“Any act of pursuit, torment, or annoyance which (i) Has the potential to injure a marine mammal or marine mammal stock in the wild (Level A harassment); or (ii) has the potential to disturb a marine mammal or marine mammal stock in the wild by causing disruption of behavioral patterns, including, but not limited to, migration, breathing, nursing, breeding, feeding, or sheltering (Level B harassment).”

Summary of Request

NMFS published a notice of receipt of application for an incidental take authorization from MMS, requesting comments and information on taking marine mammals incidental to conducting oil and gas exploration activities in the GOM, on March 3, 2003 (68 FR 9991). NMFS published a notice of extension of comment deadline on the application in the Federal Register on April 3, 2003 (68 FR 16263). On November 18, 2004 (69 FR 67535), NMFS published a notice of intent to prepare an Environmental Impact Statement, notice of public meetings, and request for scoping comments, for the requested authorizations. On April 18, 2011, NMFS received a revised complete application from the BOEMRE requesting an authorization for the take of marine mammals incidental to seismic surveys on the OCS in the GOM. The requested regulations would establish a framework for authorizing incidental take in future Letters of Authorization (LOA). These LOAs, if approved, would authorize the take, by Level A (injury) and Level B (behavioral) harassment, of 21 species of cetaceans (20 odontocetes and 1 mysticete) incidental to seismic surveys for purposes of G&G exploration on the OCS in the GOM.

BOEMRE states that underwater noise associated with sound sources (i.e., airguns, boomers, sparkers, and chirpers) may expose marine mammals in the area to noise and pressure resulting in behavioral disturbance or temporary or permanent loss of hearing sensitivity.

Specified Activities

In the revised application submitted to NMFS, BOEMRE requests authorization to take marine mammals, by Level A and Level B harassment, incidental to oil and gas industry sponsored seismic surveys on the OCS in the GOM. BOEMRE defines two primary categories of seismic surveys: (1) Deep seismic (e.g., two-dimensional [2D], three-dimensional [3D], wide azimuth surveys [WAZ]), and ocean bottom surveys [OBS], and (2) high resolution surveys.

Deep Seismic Surveys

For 2D seismic surveys, a single streamer is towed behind the survey vessel, together with a single source or airgun array. Seismic vessels generally follow a systematic pattern during a survey, typically a simple grid pattern for 2D work with lines no closer than half a kilometer (km). A 2D survey may take many months depending on the size of the geographic area.

A 3D survey uses multiple streamers and an airgun array(s), to collect a very large number of 2D slices, with minimum line separations of only 25 to 30 meters (m) (82 to 98.4 feet [ft]). A 3D survey may take many months to complete (e.g., 3 to 18) and involves a precise definition of the survey area and transects, including multiple passes to cover a given survey area. For seismic surveys, 3D methods represent a substantial improvement in resolution and useful information relative to 2D methods. Most areas in the GOM previously surveyed using 2D have been, or will be surveyed using 3D.

A typical 3D survey might employ a dual array of 18 airguns per array. The streamer array might consist of six to eight parallel cables, each 3 to 12 km (1.9 to 7.5 miles [mi]) long, and spaced 25 to 100 m (82 to 328.1 ft) apart. An eight streamer array used for deep water surveys is typically 700 m (2,296.6 ft) wide. A series of 3D surveys collected over time (commonly referred to as four-dimensional [4D] seismic surveying) is used for reservoir monitoring and management (i.e., the movement of oil, gas, and water in reservoirs can be observed over time).

WAZ acquisition configurations involve multiple vessels operating concurrently in a variety of source vessel to acquisition vessel geometries. Several source vessels (usually two to four) are used in coordination with single or dual receiver vessels either in a parallel or rectangular arrangement with a typical 1,200 m (3,937 ft) vessel spacing to maximize the azimuthal quality of data acquired. It is not uncommon to have sources also deployed from the receiver vessels in addition to source-only vessels. This improves the signal-to-noise ratio and helps to better define the salt and sub-salt structures in the deep waters of the GOM. Coiled (spiral) surveys are a further refinement of the WAZ acquisition of sub-salt data. These surveys can consist of a single source/receiver arrangement or a multi-vessel operation with multi-sources where the vessels navigate in a coiled or spiral pattern over the area of acquisition.

Deep seismic surveys (2D, 3D, or WAZ) are typically deeper penetrating than high resolution surveys and may also be done on leased blocks for more accurate identification of potential reservoirs in “known” fields. This technology can be used in developed areas to identify bypassed hydrocarbon-bearing zones in currently producing formations and new productive horizons near or below currently producing formations. It can also be used in developed areas for reservoir monitoring and field management.

OBS surveys were originally designed to enable seismic surveys in congested areas, such as producing fields, with many platforms and production facilities. Autonomous nodes or cables are deployed and retrieved by either vessels or remotely operated vehicles (ROVs). Nodes are becoming more commonly used in the GOM. OBS surveys have been found to be useful for obtaining multi-component (i.e., seismic pressure, vertical, and the two horizontal motions of the water bottom, or seafloor) information.

OBS surveys require the use of multiple vessels (i.e., usually two vessels for cable or node layout/pickup, one vessel for recording, one vessel for shooting, and two utility vessels). These vessels are generally smaller than those used in streamer operations, and the utility vessels can be very small. Operations are conducted “around the clock” and begin by dropping the cables off the back of the layout vessel or by deployment of nodal receivers by ROVs. Cable length or the numbers of nodes depend upon the survey demands; it is typically 4.2 km (2.6 mi), but can be up to 12 km. However, depending on spacing and survey size, hundreds of nodes can be deployed and re-deployed over the span of the survey. Groups of seismic detectors, usually hydrophones and vertical motion geophones, are attached to the cable in intervals of 25 to 50 m (82 to 164 ft) or autonomous nodes are spaced similarly. Multiple cables/nodes are laid parallel to each other using this layout method with a 50 m interval between cables/nodes. Typically dual airgun arrays are used on a single source vessel. When a cable/node is no longer needed to record seismic data, it is picked up by the cable pickup vessel/ROV and is moved over to the next position where it is needed. A particular cable/node can be on the seafloor anywhere from two hours to several days, depending upon operation conditions. Normally a cable will be left in place about 24 hr. However, nodes may remain in place until the survey is completed or recovered and then re-deployed by an ROV.

High Resolution Surveys

High resolution site surveys are conducted to investigate the shallow sub-surface for geohazards and soil conditions, as well as to identify potential benthic biological communities (or habitats) and archaeological resources in support of review and mitigation measures for OCS exploration and development plans. A typical operation consists of a vessel towing an airgun (about 25 m behind the vessel) and a 600 m (1,968.5 ft) streamer cable with a tail buoy (about 700 m behind the vessel). Typical surveys cover one lease block, which is 4.8 km (3 mi) on a side. Including line turns, the time to survey one block is about 2 days; however, streamer and airgun deployment and other operations may add to the total survey time. Additional information on seismic surveys for purposes of G&G exploration on the OCS in the GOM is contained in the application, which is available upon request (see ADDRESSES).

Information Solicited

Interested persons may submit information, suggestions, and comments related to BOEMRE's request (see ADDRESSES). All information, suggestions, and comments related to BOEMRE's request and NMFS's potential development and implementation of regulations governing the incidental taking of marine mammals by the oil and gas industry's seismic surveys will be considered by NMFS in developing, the most effective regulations governing the issuance of Letters of Authorization.

Dated: June 8, 2011.
Helen M. Golde,
Deputy Director, Office of Protected Resources, National Marine Fisheries Service.

[FR Doc. 2011-14742 Filed 6-13-11; 8:45 am]

BILLING CODE 3510-22-P